DEPARTMENT OF TRANSPORTATION

Federal Aviation Administration

Availability of Changes to Advisory Circular 27-1B, Certification of Normal Category Rotorcraft, and Advisory Circular 29-2C, Certification of Transport Category Rotorcraft

AGENCY: Federal Aviation Administration (FAA), DOT.

ACTION: Notice of availability of Advisory Circular (AC) changes.

SUMMARY: This notice announces the availability of changes to AC 27-1B, Certification of Normal Category Rotocraft, and AC 29-2C, Certification of Transport Category Rotocraft for the following AC paragraphs: 27.672, 27.683, 27.777, 27.1321, 27.1585, AC 27 MG 8, AC 27 Appendix A, AC 27 Appendix B, 29.45, 29.59A, 29.75A, 29.337, 29.631, 29.672, 29.683, 29.777, 29.1321, 29.1333, 29.1351, 29.1585, AC 29 MG 8, AC 29 Appendix A, and AC 29 Appendix B. These AC paragraphs are final and replace the existing AC paragraphs dated 9/30/99, as well as replace any updates to any paragraphs in Change 1 dated 2/12/03. AC 27.865B and AC 29.865B, External Loads, are revised and replace AC 27.865B and AC 29.865B dated 9/30/99. AC paragraphs 27.865B and 29.865B also replace and cancel AC 27 MG 12 and AC 29 MG 12 dated 9/30/99, as well as any updates in Change 1 dated 2/12/03. Also, AC 27 MG 18 and AC 29 MG 18, Helicopter Terrain Awareness and Warning System (HTAWS), are new AC paragraphs and are now final. All of these AC paragraphs will be included in the upcoming Change 2 update.

FOR FURTHER INFORMATION CONTACT: Kathy L. Jones, Regulations Group, FAA, Rotocraft Directorate, Aircraft Certification Service, Fort Worth, TX 76193-0111; telephone (817) 222-5359; fax (817) 222-5961; e-mail: http://www.Kathy.L.Jones@FAA.gov.

SUPPLEMENTARY INFORMATION: This notice announces the availability of AC changes. You can get electronic copies of these changes from the FAA by logging on to http://www.faa.gov/aircraft/draft_doc/. If you do not have access to the Internet, you may request a copy by contacting the person named under the caption for further information contact.

Issued in Fort Worth, TX, on June 30, 2005.
David A. Downey,
Manager, Rotorcraft Directorate, Aircraft Certification Service.

[FR Doc. 05-13367 Filed 7-6-05; 8:45 am]

BILLING CODE 4910-13-M